Title 3—

The President

Proclamation 7687 of June 24, 2003

Black Music Month, 2003

By the President of the United States of America

A Proclamation

For centuries, black artists have created or inspired distinctively American musical styles. During Black Music Month, we celebrate the ways that African-American music has helped shape American society and reflect the character of our Nation, and we recognize the pioneers who spearheaded these important musical forms.

Throughout history, African-American music has shown the social climate of the time. From the days of slavery and discrimination, through the progress of the Civil Rights movement, to today, black music has told the story of the African-American experience. In addition to giving voice to black struggles, faith, and joys, African-American music has helped also to bring people together. Before our Nation's strides toward equal justice, music such as jazz and blues provided a venue in which people of all races could be judged by their talent, and not the color of their skin.

The people who sang the earliest African-American music knew the worst of human cruelty and earthly injustice. In spirituals, work songs, and shouts, we hear the pain of separation and the bitterness of oppression. We also hear courage, and the comfort and strength of a faith that trusts God to right every wrong and wipe away every tear. These songs were used to share stories, spread ideas, preserve history, and establish community.

Early work songs and spirituals laid the creative foundation for the development of gospel, blues, and jazz. In black churches throughout the south, gospel offered a medium to share the good news. The beauty of both gospel and the blues lies in their power to express emotions that can be felt as well as heard. The blues were first popularized in America by W.C. Handy. A classically trained musician, this “Father of the Blues” helped to compose and distribute blues music throughout the country. His music continues to touch people today.

In the early 20th century, the progression to jazz took place all over the country, from the deep south of New Orleans and the Mississippi Delta to northern cities such as Chicago and New York. Black artists migrated to Harlem, New York in large numbers, creating a culturally diverse hub for black art, writing, and music known as the Harlem Renaissance. Harlem became a place of energy and magic, and timeless music emerged from this period. The heart of the Harlem Renaissance is reflected in the original and authentic music of such influential figures as Bessie Smith, Count Basie, and Fletcher Henderson.

African Americans continued to influence popular music through the 1940s and 50s, with the emergence of rhythm and blues and rock and roll. These revolutionary styles built upon various forms of African-American music, fusing elements of jazz, blues, and gospel.

African-American music continues to influence the American music scene today with styles such as rap and hip-hop. As we celebrate the many creative and inspiring African-American artists whose efforts have enhanced our Nation, we recognize their enduring legacy and look to a future of continued musical achievement.

NOW, THEREFORE, I, GEORGE W. BUSH, President of the United States of America, by virtue of the authority vested in me by the Constitution and laws of the United States, do hereby proclaim June 2003 as Black Music Month. I encourage Americans of all backgrounds to learn more about the heritage of black musicians, and to celebrate the remarkable role they have played in our history and culture.

IN WITNESS WHEREOF, I have hereunto set my hand this twenty-fourth day of June, in the year of our Lord two thousand three, and of the Independence of the United States of America the two hundred and twenty-seventh.

B

[FR Doc. 03-16401

Filed 6-25-03; 8:45 am]

Billing code 3195-01-P